DEPARTMENT OF HEALTH AND HUMAN SERVICES

Centers for Disease Control and Prevention

Mine Safety and Health Research Advisory Committee (MSHRAC): Meeting

In accordance with section 10(a)(2) of the Federal Advisory Committee Act (Pub. L. 92-463), the Centers for Disease Control and Prevention (CDC) announces the following meeting of the aforementioned committee:

Time and Date:

8:45 a.m.—5:15 p.m., January 22, 2008.

8:30 a.m.—3:45 p.m., January 23, 2008.

Place: Hilton Garden Inn Pittsburgh/Southpointe, 1000 Corporate Drive, Canonsburg, PA 15317, telephone (724) 743-5000, fax (724) 743-5010.

Status: The meeting room accommodates approximately 50 people.

Purpose: This committee is charged with providing advice to the Secretary, Department of Health and Human Services; the Director, CDC; and the Director, NIOSH, on priorities in mine safety and health research, including grants and contracts for such research, 30 U.S.C. 812(b)(2), Section 102(b)(2).

Matters To Be Discussed: The meeting will focus on Communications and Tracking, update on Refuge Alternatives Activities, Mine Ground Control Research, Dynamic Failures Proposal, NAS Review and Planned Actions, Safety Culture Pilot Project and Coal Workers Pneumoconiosis Research. The agenda will also include an update report from the Associate Director for Mining. Agenda items are subject to change as priorities dictate.

Contact Person for More Information: Jeffery L. Kohler, Ph.D., Executive Secretary, MSHRAC, NIOSH, CDC, 626 Cochrans Mill Road, Pittsburgh, PA 15236, telephone (412) 386-5301, fax (412) 386-5300. The Director, Management Analysis and Services Office, has been delegated the authority to sign Federal Register notices pertaining to announcements of meetings and other committee management activities for both the Centers for Disease Control and Prevention and the Agency for Toxic Substances and Disease Registry.

Dated: December 21, 2007.
Elaine Baker,
Director, Management Analysis and Services Office, Centers for Disease Control and Prevention (CDC).

[FR Doc. E7-25509 Filed 12-31-07; 8:45 am]

BILLING CODE 4163-18-P